FEDERAL ELECTION COMMISSION

Sunshine Act Meeting

AGENCY: Federal Election Commission.

DATE AND TIME: Tuesday, March 7, 2017 at 10:00 a.m. and its Continuation at the Conclusion of the Open Meeting on March 9, 2017.

PLACE: 999 E Street NW., Washington, DC.

STATUS: This Meeting was Closed to the Public.

Federal Register Notice of Previous Announcement—82 FR 12452

THIS ITEM WAS ALSO DISCUSSED:

Matters relating to internal personnel decisions, or internal rules and practices

* * * * *

PERSON TO CONTACT FOR INFORMATION: Judith Ingram, Press Officer, Telephone: (202) 694-1220.

Dayna C. Brown,
Secretary and Clerk of the Commission.

[FR Doc. 2017-05064; Filed 3-9-17; 4:15 pm]

BILLING CODE P